DEPARTMENT OF DEFENSE

Office of the Secretary

U.S. Strategic Command Strategic Advisory Group

AGENCY: U.S. Strategic Command, Department of Defense.

ACTION: Notice.

SUMMARY: The Strategic Advisory Group (SAG) will meet in closed session on November 6 and 7, 2003.

The mission of the SAG is to provide timely advice on scientific, technical, intelligence, and policy-related issues to the Commander, U.S. Strategic Command, during the development of the Nation's strategic war plans. Full development of the topics will require discussion of information classified in accordance with Executive Order 12958, dated April 17, 1995. Access to this information must be strictly limited to personnel having requisite security clearances and specific need-to-know. Unauthorized disclosure of the information to be discussed at the SAG meeting could have exceptionally grave impact upon national defense.

In accordance with Section 10(d) of the Federal Advisory Committee Act (5 U.S.C., App. 2), it has been determined that this SAG meeting concerns matters listed in 5 U.S.C. 552b(c), and that, accordingly, this meeting will be closed to the public.

Dated: October 27, 2003.
Patricia L. Toppings,
Alternate OSD Federal Register Liaison Officer, Department of Defense.

[FR Doc. 03-27939 Filed 11-5-03; 8:45 am]

BILLING CODE 5001-06-M